DEPARTMENT OF LABOR

Veterans' Employment and Training Service

Privacy Act of 1974, System of Records

AGENCY: Veterans' Employment and Training Services (VETS).

ACTION: Notice of a modified system of records.

SUMMARY: The Veteran Data Exchange Initiative (VDEI) enables DOL to receive Transitioning Service Members' (TSM) data from Department of Defense (DOD) Defense Manpower Data Center (DMDC) and allows authorized agency users to access the data with the goal of program improvement through data analytics and providing veterans more targeted employment services. The system has been branded the VDEI.

DATES: This System of Records Notice (SORN) is effective upon its publication in today's Federal Register with the exception of the routine uses. The new routine uses will not be effective until May 5, 2021 pending public comment. Comments on the new routine uses or other aspects of the SORN must be submitted on or before May 5, 2021.

ADDRESSES: U.S. Department of Labor, VETS, Attn: Luke Murren, 202-693-4711, 200 Constitution Ave. NW, Suite S-1212, Washington, DC 20210, Email: Murren.Luke@dol.gov.

FOR FURTHER INFORMATION CONTACT: Request for additional information should be submitted to: U.S. Department of Labor, VETS, Attn: Luke Murren, 202-693-4711, 200 Constitution Ave. NW, Suite S-1212, Washington, DC 20210, Email: Murren.Luke@dol.gov.

SUPPLEMENTARY INFORMATION: The National Defense Authorization Act (NDAA) of 2019 was enacted on August 13, 2018. The NDAA helped shape Transition Assistance Program-related activities. The DOD is now required to provide individualized pre-separation counseling no later than 365 days before a service member's release from the service and the Act also required changes to the employment related courses provided by VETS. To meet new NDAA requirements, additional data fields were added to the DD-2648 separation form. The Department of Labor (DOL) wishes to receive pertinent data regarding employment-related outcomes that have been added to the separation form. Some of these additional data fields include: Military installation of separation; initial counseling and post-separation goal setting information; “warm handover” data regarding a non-career ready individual; and the commanding officer's transition signature and date. It is the intent through this SORN amendment that DOL will be able to collect this data for the purposes of: Ensuring that a warm handover is occurring when necessary; that the appropriate individuals within the American Job Center (AJC) network are being contacted; provide feedback to DOD if warm handovers are not occurring in certain geographic areas or installations; conduct analysis by individual military base; and identify personal goals to measure achievement of those goals. The specific data fields requested under this modification are: Warm Handover Type; Warm Handover Organization; Warm Handover Post-Transition Location; Warm Handover Address; Military Installation; Phone Number; Date Completed Initial Counseling; Post-Transition Goals; Completed Resume or Employment Verification; Completed an Individual Training Plan; and All Counseling Documents in Order; and Commander Signature Date.

SYSTEM NAME AND NUMBER:

SYSTEM NAME:

Veterans' Data Exchange Initiative (VDEI).

SYSTEM NUMBER:

DOL/VETS-5.

SECURITY CLASSIFICATION:

None.

SYSTEM LOCATION:

The VDEI servers are located at: DC1 Data Center, 21711 Filigree Ct., Ashburn, VA 20147.

SYSTEM MANAGER(S):

Robert Quarles, Director, Information Technology, US Department of Labor/Veterans' Employment and Training Service (VETS), 200 Constitution Ave. NW, Room S-1212, Washington, DC 20210, Work: (202) 693-4712.

MODIFICATION:

The CATEGORIES OF RECORDS IN THE SYSTEM was modified to add the additional data elements:

1. Medical Discharge

2. Commander's Signature Date

3. Warm Handover Type

4. Warm Handover Organization

5. Warm Handover Post-Transition Location

6. Warm Handover Address

7. Post Separation Phone Number

8. Military Installation

9. Date Completed Initial Counseling

10. Post Transition Goals

11. Completed Resume or Employment Verification

12. Completed an Individual Training Plan

13. Complete All Counseling Documents

HISTORY:

The Federal Register notice for VDEI is DOL VDEI-5.

Rachana Desai Martin,
Senior Agency Official for Privacy, Deputy Assistant Secretary for Policy, Office of the Assistant Secretary for Administration and Management.

[FR Doc. 2021-06953 Filed 4-2-21; 8:45 am]

BILLING CODE 4510-04-P